DEPARTMENT OF COMMERCE

National Oceanic and Atmospheric Administration

Agency Information Collection Activities; Submission to the Office of Management and Budget (OMB) for Review and Approval; Comment Request; Southeast Region Family of Forms

AGENCY: National Oceanic & Atmospheric Administration (NOAA), Commerce.

ACTION: Notice of Information Collection; request for comment.

SUMMARY: The Department of Commerce, in accordance with the Paperwork Reduction Act of 1995 (PRA), invites the general public and other Federal agencies to comment on proposed, and continuing information collections, which helps to assess the impact of information collection requirements and minimize the public's reporting burden. The purpose of this notice is to allow for 60 days of public comment preceding submission of the collection to OMB.

DATES: To ensure consideration, comments regarding this proposed information collection must be received by October 19, 2020.

ADDRESSES: Interested persons are invited to submit written comments to Adrienne Thomas, NOAA PRA Officer, at adrienne.thomas@noaa.gov. Please reference OMB Control Number “0648-0016” in the subject line of your comments. Do not submit confidential business information or otherwise sensitive or protected information.

FOR FURTHER INFORMATION CONTACT: Requests for additional information or specific questions related to collection activities should be directed to Rich Malinowski, National Marine Fisheries Service (NMFS), Sustainable Fisheries Division, 263 13th Avenue S, St. Petersburg, Florida 33701, phone: (727) 824-5305, email: rich.malinowski@noaa.gov.

SUPPLEMENTARY INFORMATION:

I. Abstract

This request is for an extension and revision of a current information collection.

Participants in most federally managed fisheries in the NMFS Southeast Region are currently required to keep and submit catch and effort logbooks from their fishing trips. A subset of fishermen on these vessels also provides information on the species and quantities of fish, shellfish, marine turtles, and marine mammals that are caught and discarded or have interacted with the fishing gear. A subset of fishermen on these vessels also provides information about dockside prices, trip operating costs, and annual fixed costs.

The data are used for scientific analyses that support critical conservation and management decisions made by national and international fishery management organizations. Interaction reports are needed for fishery management planning and to help protect endangered species and marine mammals. Price and cost data will be used in analyses of the economic effects of proposed and existing regulations.

Final rules implementing requirements under the authority of the Magnuson-Stevens Fishery Conservation and Management Act (Magnuson-Stevens Act) will require an owner or operator of a vessel with a Federal charter vessel/headboat permit for Gulf of Mexico (Gulf) reef fish, Gulf coastal migratory pelagic (CMP) species, Atlantic CMP species, Atlantic dolphin and wahoo, or South Atlantic snapper-grouper to submit an electronic fishing report (also referred to as an electronic logbook) for each fishing trip (85 FR 10331, February 24, 2020, and 85 FR 44005, July 21, 2020). NMFS is designing and plans to implement an intercept survey in 2021 to support and validate the electronic logbooks submitted for the Gulf and Atlantic reporting programs. These survey data are required to carry out provisions of the Magnuson-Stevens Act (16 U.S.C. 1801 et seq.), as amended, regarding conservation and management of fishery resources.

The survey would intercept captains (respondents) of federally-permitted charter vessels and headboats (for-hire vessels) in the aforementioned fisheries at verified landing locations that are randomly selected in Gulf and Atlantic coastal counties to obtain information after that day's fishing activity has occurred. The intercept survey is not a census of all electronically reported logbooks but instead would use random sampling to select landing locations for port samplers to gather a representative sample. Respondents would be asked about vessel information, time and type of fishing, the number of anglers, and details of catch. Catch information would include species identification and number of fish. Length and weight measurements of species retained on fishing trips may also be collected if time allows.

The purpose of the intercept survey is to validate the electronic logbooks submitted through the Gulf and Atlantic for-hire reporting programs, the information collections for which are approved under OMB Control Number 0648-0016. The data collected from the intercept survey would be used to estimate non-reporting of fishing trips and reporting errors. Data from the intercept survey would be analyzed through statistical methods to provide accurate estimates of the total catch and effort. Without the intercept survey, the electronic logbook results would be left unchecked and could be erroneous due to no adjustments for non-reporting and misreporting. Erroneous fisheries information could mislead management and lead to inappropriate or unnecessary regulations or lead to lack thereof when needed.

The total for-hire catch and effort estimates obtained from the survey, as well as from the Gulf and Atlantic for-hire reporting programs are intended to be used on an ongoing basis by NMFS, regional fishery management councils, interstate marine fisheries commissions, and state natural resource agencies to develop, implement, and monitor fishery management programs, per statutory requirements of the Magnuson-Stevens Act. Catch and effort statistics are fundamental for assessing the influence of fishing on any fish stock. Accurate estimates of the quantities taken, fishing effort, and both the seasonal and geographic distributions of the catch and effort are required for the development of regional management policies and plans.

II. Method of Collection

The information is submitted on paper forms and electronic transmissions. Logbooks are completed daily and submitted on either a per trip, weekly, or monthly basis, depending on the fishery. Fixed costs are submitted on an annual basis. Other information is submitted on a per trip basis.

For the proposed intercept survey, information would be collected through in-person interviews at verified landing locations.

III. Data

OMB Control Number: 0648-0016.

Form Number(s): None.

Type of Review: Regular submission—extension and revision of a current information collection.

Affected Public: Businesses or other for-profit organizations; individuals.

Estimated Number of Respondents: 6,971.

Estimated Time Per Response: Annual fixed-cost report, 45 minutes; Colombian fishery logbook, 18 minutes; discard logbook, 15 minutes; headboat, charter vessel, golden crab, reef fish-mackerel, economic cost per trip, wreckfish, and shrimp logbooks, 10 minutes; no-fishing report for golden crab, reef fish-mackerel, charter vessels, wreckfish and Colombian fisheries, 2 minutes; installation of a vessel monitoring unit, 5 hours; landing location request and power-down exemption request, 5 minutes; trip declaration, 2 minutes; and proposed intercept survey, 15 minutes.

Estimated Total Annual Burden Hours: 69,752.

Estimated Total Annual Cost to Public: $1,706,211 in record-keeping or reporting cost.

Respondent's Obligation: Mandatory.

Legal Authority: 16 U.S.C. 1801 et seq.

IV. Request for Comments

NMFS is soliciting public comments to: (a) Evaluate whether the proposed information collection is necessary for the proper functions of the Department, including whether the information will have practical utility; (b) Evaluate the accuracy of the time and cost burden estimates for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. NMFS will include or summarize each comment in our request to OMB to approve this information collection request. Before including your address, phone number, email address, or other personal identifying information in your comment, you should be aware that your entire comment, including your personal identifying information, may be made publicly available at any time. While you may ask us in your comment to withhold your personal identifying information from public review, NMFS cannot guarantee that will occur.

Sheleen Dumas,
Department PRA Clearance Officer, Office of the Chief Information Officer, Commerce Department.

[FR Doc. 2020-18182 Filed 8-18-20; 8:45 am]

BILLING CODE 3510-22-P